DEPARTMENT OF AGRICULTURE

Forest Service

North Bridgers Grazing Allotment Management Plan Update; Bozeman Ranger District; Gallatin National Forest; Gallatin County, MT

AGENCY: Forest Service, USDA.

ACTION: Notice; intent to prepare environmental impact statement.

SUMMARY: The USDA, Forest Service, will prepare an environmental impact statement (EIS) to update the allotment management plans for eleven cattle and horse grazing allotments. The allotments are located in the northern end of the Bridger Mountain Range approximately 20 miles north of Bozeman Montana.

DATES: Initial comments concerning this project must be received 45 days after publication of this Notice of Intent. The draft environmental impact statement is expected April 2006 and the final environmental impact statement is expected September 2006.

ADDRESSES: Send written comments to John Councilman, 3710 Fallon Street Suite C, Bozeman, Montana 59718. Send e-mail comments to: comments-northern-gallatain@fs.fed.us. Please include the name of the project on the e-mail subject line.

FOR FURTHER INFORMATION CONTACT: John Councilman, Resource Assistant, Bozeman Ranger District, Gallatin National Forest, USDA Forest Service (406) 522-2533 (see ADDRESSES above).

Responsible Official: José Castro, District Ranger, Bozeman Ranger District, 3710 Fallon Street Suite C, Bozeman, Montana 59718.

SUPPLEMENTARY INFORMATION: The Gallatin National Forest includes approximately 1.9 million acres of public land adjacent the northern boundary of Yellowstone National Park. Local communities include Bozeman, Big Sky, West Yellowstone, Livingston, Big Timber, Gardiner, and Cooke City, Montana. The eleven allotments scheduled for review include approximately 63,000 acres of National Forest and private lands within boundaries of the allotments.

The purpose and need of this proposal, in part, is to comply with Public Law 104-19, Section 504(a): Establish and adhere to a schedule for the completion of National Environmental Policy Act (NEPA of 1969 (42 U.S.C. 4321 et seq.) analysis and decisions on all grazing allotments within the National Forest System unit for which NEPA is needed (Pub. L. 104-19, General Provision 1995). Upon completion of the NEPA analysis and decisions for the allotments, the terms and conditions of existing grazing permits will be modified, as necessary, to conform to the NEPA analysis. In addition, the purpose of the action is to improve conditions of riparian plant communities, reduce stream-side trampling by livestock, and achieve desirable vegetative conditions on those areas grazed by livestock within the project area.

The proposed action is to continue grazing the current numbers of livestock. Current permitted numbers include about 921 cow/calf pairs and 4 horses on National Forest Land plus 1126 cow/calf pairs, 10 yearlings and 6 horses grazed on the private land portions within the allotments. Adaptive management strategies would be implemented. Adaptive management allows flexibility in how the livestock are grazed and would allow managers to make adjustments and corrections to management based on monitoring. Also, changes in the current riparian grazing standards are proposed. Modification, additions or removal or allotment improvements such as fences and water developments may be proposed.

No Grazing and No Action alternatives will be analyzed during the NEPA process. The No Grazing alternative would eliminate domestic livestock grazing on the allotments. The No Action alternative would allow continued livestock grazing as it is currently being managed. Other alternatives, arising from issues identified through scoping, could be analyzed as well.

Comments from the public and other agencies on this proposal will be used in preparation of a Draft Environmental Impact Statement (DEIS). More specifically, comments will be used to modify and refine the alternatives and identify potential resource issues (environmental effects) that should be considered in the analysis.

The Draft EIS is expected to be filed with the Environmental Protection Agency (EPA) and available for public review in April in 2006. At that time, the EPA will publish a Notice of Availability of the Draft EIS in the Federal Register. The comment period on the draft environmental impact statement will be 45 days from the date the Environmental Protection Agency publishes the notice of availability in the Federal Register. The Final EIS is scheduled for completion in September 2006.

The notice of intent initiated the scoping process which guides the development of the environmental impact statement. Substantive comments and objections to the proposed action will be considered during this analysis.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F. 2d 1016, 1022 (9th Cir. 1986) and Wisconsin Heritages, Inc. v. Harris. 490 F. Supp. 1334, 1338 (E.D. Wis. 1980). Because of these court rulings, it is very important that those interested in this proposed action participate during comment periods provided so that substantive comments and objections are made available to the Forest Service at a time when they can meaningfully consider them. To assist the Forest Service in identifying and considering issues, comments should be specific to concerns associated with the management of livestock grazing within the northern Bridger Mountains of the Gallatin National Forest. Reviewers may wish to refer to the Council on Environmental Quality Regulations for implementing the procedural provisions of the National Environmental Policy Act at 40 CFR 1503.3 in structuring comments.

I am the responsible official and the deciding officer for the North Bridgers Grazing Allotment Management Plan Update. My address is District Ranger, Bozeman Ranger District, 3710 Fallon Street Suite C, Bozeman, MT 59718.

Dated: December 8, 2004.
José Castro
District Ranger

[FR Doc. 05-280 Filed 1-5-05; 8:45 am]

BILLING CODE 3410-11-M